DEPARTMENT OF TRANSPORTATION

Federal Motor Carrier Safety Administration

[Docket No. FMCSA-2023-0181]

Agency Information Collection Activities; Renewal of an Approved Information Collection Request: Motor Carrier Records Change Form

AGENCY: Federal Motor Carrier Safety Administration (FMCSA), Department of Transportation (DOT).

ACTION: Notice and request for comments.

SUMMARY: In accordance with the Paperwork Reduction Act of 1995, FMCSA announces its plan to submit the Information Collection Request (ICR) described below to the Office of Management and Budget (OMB) for review and approval. The information collected is required by the Office of Registration to process name changes, address changes, and reinstatements of operating authority for motor carriers, freight forwarders, and brokers. On December 14, 2023, FMCSA published a notice in the Federal Register with a 60-day comment period to announce its intention to submit this ICR to OMB for renewal. FMCSA received no comments in response to the published notice.

DATES: Comments on this notice must be received on or before June 6, 2024.

ADDRESSES: Written comments and recommendations for the proposed information collection should be submitted within 30 days of publication of this notice to www.reginfo.gov/public/do/PRAMain. Find this information collection by selecting “Currently under 30-day Review—Open for Public Comments” or by using the search function.

FOR FURTHER INFORMATION CONTACT: Mr. Jeffrey Secrist, Office of Registration, Chief, Registration Division, DOT, FMCSA, West Building 6th Floor, 1200 New Jersey Avenue SE, Washington, DC 20590; (202) 385-2367; jeff.secrist@dot.gov.

SUPPLEMENTARY INFORMATION:

Title: Motor Carrier Records Change Form.

OMB Control Number: 2126-0060.

Type of Request: Renewal of a currently approved ICR.

Respondents: For-hire motor carriers, brokers, and freight forwarders.

Estimated Number of Respondents: 64,673.

Estimated Time per Response: 15 minutes per response.

Expiration Date: July 31, 2024.

Frequency of Response: On occasion.

Estimated Total Annual Burden: 16,168.

Background

FMCSA registers for-hire motor carriers under 49 U.S.C. 13902, surface freight forwarders under 49 U.S.C. 13903, and property brokers under 49 U.S.C. 13904. Each registration is effective from the date specified under 49 U.S.C. 13905(c). “Procedures for changing the name or business form of a motor carrier, freight forwarder, or property broker,” (49 CFR 365.413T) states that motor carriers, forwarders, and brokers must submit the required information to FMCSA's Office of Registration requesting the change. Paragraph (f) of § 360.3T mentions fees that FMCSA collects for “petition for reinstatement of revoked operating authority,” but does not provide any specifics for the content that petition should take.

Motor carriers, freight forwarders, and property brokers are required to use Form MCSA-5889 to request a name or address change and to request reinstatement of a revoked operating authority. Respondents can submit the form online through the Licensing and Insurance (L&I) website, by fax, or by mail. According to data collected between 2020 and 2022, annually, approximately 1 percent of forms are submitted by mail; 7 percent are submitted by fax; and 92 percent are submitted online. The information collected is then entered in the L&I database by FMCSA staff.

Form MCSA-5889 enables FMCSA to maintain up-to-date records so that the Agency can recognize the entity in question in case of enforcement actions or other procedures required to ensure that the carrier is willing and able to provide for-hire transportation services, and so that entities whose operating authority has been revoked can resume operation if they are not otherwise blocked from doing so. This multi-purpose form, filed by registrants on a voluntary, as-needed basis, simplifies the process of gathering the information needed to process the entities' requests in a timely manner, with the least amount of effort for all parties involved.

The form prompts users to report the following data points (whichever are relevant to their records change request):

1. Requestor's fax number, email address, and applicant's oath.

2. Entity's legal/doing business as names, USDOT number, docket MC/MX/FX number, current street address, and phone number(s).

3. Affiliations with FMCSA-licensed entities.

4. Requested changes to the entity's address.

5. Requested changes to the entity's name and/or ownership, management, or control.

6. Type(s) of operating authority the entity wishes to reinstate.

7. Credit card information (name, number, expiration date, address, date) if filing a name change or reinstatement.

Changes From Previous Estimates

The currently approved version of this ICR estimated the average annual burden to be 6,781 annual burden hours, with 27,122 total annual respondents. For this renewal the estimated average annual burden is 16,168, with 64,673 total average annual respondents. The annual burden hour increase of 9,387 is due to the increase in the average number of annual respondents.

Public Comments Invited: You are asked to comment on any aspect of this information collection, including: (1) whether the proposed collection is necessary for the performance of FMCSA's functions; (2) the accuracy of the estimated burden; (3) ways for FMCSA to enhance the quality, usefulness, and clarity of the collected information; and (4) ways that the burden could be minimized without reducing the quality of the collected information.

Issued under the authority of 49 CFR 1.87.
Thomas P. Keane,
Associate Administrator, Office of Research and Registration.

[FR Doc. 2024-09894 Filed 5-6-24; 8:45 am]

BILLING CODE 4910-EX-P